DEPARTMENT OF ENERGY

Federal Energy Regulatory Commission

[Project Nos. 2503-136]

Duke Energy Carolinas, LLC; Notice of Availability of Environmental Assessment

May 10, 2010.

In accordance with the National Environmental Policy Act of 1969 and the Federal Energy Regulatory Commission's (Commission) regulations, 18 CFR part 380 (Order No. 486, 52 FR 47897), the Office of Energy Projects has reviewed an application submitted by Duke Energy Carolinas, LLC (licensee) for non-project use of project lands and waters at the Keowee-Toxaway Project (FERC No. 2503). An environmental assessment (EA) has been prepared as part of staff's review of the proposal. The proposed use would be located on Lake Keowee in Oconee County, South Carolina.

In the application, the licensee proposes to issue a lease to Sleppy, LLC, to build a residential marina for the Wilderness Cove subdivision. The proposed marina would consist of 2 floating, cluster docks accommodating a total of 30 watercraft, one concrete boat ramp, and 189 linear feet of rip-rap inter-planted with native vegetation. The boat ramp would serve a private, dry-dock boat-storage facility intended for the residents of Wilderness Cove subdivision, which would be located outside of the project boundary. The EA contains Commission staff's analysis of the probable environmental impacts of the proposed action and concludes that approval of the proposal would not constitute a major Federal action significantly affecting the quality of the human environment.

The EA is attached to a Commission order titled “Order Modifying and Approving Non-Project Use of Project Lands and Waters,” which was issued May 10, 2010, and is available for review and reproduction at the Commission's Public Reference Room, located at 888 First Street, NE., Room 2A, Washington, DC 20426. The EA may also be viewed on the Commission's Web site at http://www.ferc.gov using the “elibrary” link. Enter the docket number (P-2503) in the docket number field to access the document. For assistance, contact FERC Online Support at FERCOnlineSupport@ferc.gov or toll-free at 1-866-208-3372, or for TTY, (202) 502-8659.

Kimberly D. Bose,
Secretary.

[FR Doc. 2010-11631 Filed 5-14-10; 8:45 am]

BILLING CODE 6717-01-P